DEPARTMENT OF ENERGY

Federal Energy Regulatory Commission

[Project No. 14657-000]

Appalachian Mountain Club; Notice of Application Tendered for Filing With the Commission and Soliciting Additional Study Requests

Take notice that the following hydroelectric application has been filed with the Commission and is available for public inspection.

a. Type of Application: Original Minor License.

b. Project No.: 14657-000.

c. Date filed: December 29, 2014.

d. Applicant: Appalachian Mountain Club.

e. Name of Project: Zealand Falls Hydroelectric Project.

f. Location: On Whitehall Brook, in the Town of Bethlehem, Grafton County, New Hampshire. The project would occupy 0.66 acres of federal land managed by the U.S. Forest Service.

g. Filed Pursuant to: Federal Power Act, 16 U.S.C. 791(a)-825(r).

h. Applicant Contact: James Wrigley, Appalachian Mountain Club, P.O. Box 298, Gorham, New Hampshire 03581, (603) 466-8110.

i. FERC Contact: John Baummer, (202) 502-6837, john.baummer@ferc.gov.

j. Cooperating agencies: Federal, State, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission by the deadline listed in item l below.

l. Deadline for filing additional study requests and requests for cooperating agency status: With this notice, we are waiving the 60-day timeframe in Section 4.32(b)(7) of 18 CFR for requesting additional studies and requests for cooperating agency status. Instead, requests for studies and cooperating agency status are due 30 days from the date of this notice.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14657-000.

m. The application is not ready for environmental analysis at this time.

n. The existing, unlicensed Zealand Falls Hydroelectric Project consists of: (1) A 27-foot-long, 3-inch diameter intake pipe with a 1/8-inch welded wire debris screen; (2) a 50.5-inch-long, 26.5-inch-wide, 31-inch-high settling tank; (3) a 1,374-foot-long penstock consisting of a 970-foot-long, 3-inch-diameter section connected to a 404-foot-long, 2-inch diameter section; (4) a 47.75-inch-wide, 41.25-inch-long generator shed; (5) a single turbine-generator unit with an installed capacity of 2.5 kilowatts; (6) a 6.5-foot-long, 3-inch diameter drain line; (7) a buried 300-foot-long, 48-volt transmission line connecting the turbine-generator unit to Zealand Falls Hut; and (8) appurtenant facilities. The project generates approximately 1,010 kilowatt-hours annually. The applicant proposes to continue operating the project in a run-of-river mode.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary schedule. Revisions to the schedule will be made as appropriate.

Issue Notice Ready for Environmental Analysis | March 2015.
Issue Notice of the Availability of the EA | June 2015.

Dated: January 9, 2015.
Kimberly D. Bose,
Secretary.

[FR Doc. 2015-00574 Filed 1-15-15; 8:45 am]

BILLING CODE 6717-01-P